DEPARTMENT OF LABOR

Employment and Training Administration

[TA-W-54,310]

Intermet Havana Foundry, a Division of Intermet; Havana, IL; Notice of Negative Determination Regarding Application for Reconsideration

By application of April 27, 2004, a petitioner requested administrative reconsideration of the Department's negative determination regarding eligibility for workers and former workers of the subject firm to apply for Trade Adjustment Assistance (TAA). The denial notice was signed on March 26, 2004, and published in the Federal Register on May 24, 2004 (69 FR 29575).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Intermet Havana Foundry, a division of Intermet, Havana, Illinois engaged in the production of ductile iron castings was denied because the “contributed importantly” group eligibility requirement of section 222 of the Trade Act of 1974 was not met. The “contributed importantly” test is generally demonstrated through a survey of the workers' firm's customers. The Department conducted a survey of the subject firm's major customers regarding their purchases of ductile iron castings during 2002, 2003 and January 2004. The respondents reported no increased imports. The subject firm did not increase its reliance on imports of ductile iron castings during the relevant period, nor did it shift production to a foreign source.

The petitioner alleges that the layoffs at the subject firm are attributable to a shift in production to Mexico. To support this allegation, a petitioner attached copies of Intermet employees' correspondence regarding transfers of assets from Havana facility to Mexico.

A review of the initial investigation and a further contact with a company official confirmed that Intermet Havana Foundry, a division of Intermet, Havana, Illinois did plan a shift of production from Havana, Illinois to Mexico. The company official stated that Intermet began planning to construct a facility in Mexico in 2003 and planned to move assets to that newly constructed facility. However, the subject firm decided to put plans for a new facility in Mexico on hold for an indefinite period of time. Therefore, as of today, no production has been shifted to Mexico and the work performed at the Havana facility is being shifted to other Intermet facilities in the United States.

Should the shift to Mexico occur, the petitioners are encouraged to file a new petition on behalf of workers at the Intermet Havana Foundry, a division of Intermet, Havana, Illinois, thereby creating a relevant period of investigation that would include changing conditions.

Conclusion

After review of the application and investigative findings, I conclude that there has been no error or misinterpretation of the law or of the facts which would justify reconsideration of the Department of Labor's prior decision. Accordingly, the application is denied.

Signed in Washington, DC, this 15th day of June 2004.
Elliott S. Kushner,
Certifying Officer, Division of Trade Adjustment Assistance.

[FR Doc. 04-14789 Filed 6-29-04; 8:45 am]

BILLING CODE 4510-30-P